DEPARTMENT OF TRANSPORTATION

Federal Aviation Administration

14 CFR Part 71

[Docket No. FAA-2019-0474; Airspace Docket No. 19-AEA-2]

RIN 2120-AA66

Amendment of Air Traffic Service (ATS) Routes in the Vicinity of Glens Falls, NY

AGENCY: Federal Aviation Administration (FAA), DOT.

ACTION: Final rule.

SUMMARY: This action amends VHF Omnidirectional Range (VOR) Federal airways V-91, V-123, V-431, V-489, and V-496 due to the planned decommissioning of the Glens Falls, NY, VORTAC navigation aid which provides navigation guidance for segments of the routes. The Glens Falls VORTAC is being decommissioned as part of the FAA's VOR Minimum Operational Network (MON) program.

DATES: Effective date 0901 UTC, September 10, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11D at NARA, email: fedreg.legal@nara.gov, or go to https://www.archives.gov/federal-register/cfr/ibr-locations.html.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure in the National Airspace System as necessary to preserve the safe and efficient flow of air traffic.

History

The FAA published a notice of proposed rulemaking in the Federal Register for Docket No. FAA-2019-0474 (84 FR 34075; July 17, 2019) amending VOR Federal airways V-91, V-123, V-431, V-489, and V-496 due to the planned decommissioning of the Glens Falls, NY, VORTAC. Interested parties were invited to participate in this rulemaking effort by submitting written comments on the proposal. No comments were received.

VOR Federal airways are published in paragraph 6010(a) of FAA Order 7400.11D dated August 8, 2019, and effective September 15, 2019, which is incorporated by reference in 14 CFR 71.1. The VOR Federal airways listed in this document will be subsequently published in the Order.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

The FAA is amending Title 14 Code of Federal Regulations (14 CFR) part 71 by amending VOR Federal airways V-91, V-123, V-431, V-489, and V-496 due to the planned decommissioning of the Glens Falls, NY, VORTAC. The airway changes are described below.

V-91: V-91 currently extends between the intersection of the Calverton, NY, VOR/DME 180° radial, and the Hampton, NY, VORTAC 223° radial; and the Burlington, VT, VOR/DME. The FAA is removing the route segments between the Albany, NY, VORTAC, and Burlington, VT. As amended, V-91 extends between the intersection of the above Calverton and Hampton radials; and Albany, NY. Alternative routing between Albany and Burlington, VT, is available via V-542 from Albany to Cambridge, NY, then V-487 to Burlington.

V-123: V-123 currently extends between the intersection of the Washington, DC, VOR/DME 065° radial, and the Baltimore, MD, VORTAC 197° radial; and the Glens Falls, NY, VORTAC. This action removes the segment between the Cambridge, NY, VOR/DME and Glens Falls. As amended, V-123 extends between the intersection of the above Washington, DC, and the Baltimore, MD, radials; and the Cambridge, NY, VOR/DME.

V-431: V-431 currently extends between the intersection of the Boston, MA, VOR/DME 015° radial, and the Gardner, MA, VOR/DME 097° radial; and the intersection of the Glens Falls, NY, VORTAC 286° radial, and the Albany, NY, VORTAC 350° radial. This action removes the segments between the Gardner, MA, VOR/DME, and the intersection of the Glens Falls, NY 286° and the Albany, NY 350° radials. The amended route extends between the intersection of the Boston, MA, VOR/DME 015° radial, and the Gardner, MA, VOR/DME 097° radial; and Gardner, MA.

V-489: V-489 currently extends between the intersection of the Sparta, NJ, VORTAC 300° radial and the Huguenot, NY, VOR/DME 196° radial; and Glens Falls, NY, VORTAC. This action removes the segment between the Albany, NY, VORTAC and Glens Falls, NY. As amended V-489 extends between the intersection of the Sparta, NJ, 300° radial and the Huguenot, NY, 196° radial; and Albany, NY.

V-496: V-496 currently extends between the Utica, NY, VORTAC, and the Kennebunk, ME, VOR/DME. This action removes the segments between Utica, NY, and the Lebanon, NH, VOR/DME. As amended, V-496 extends between Lebanon, NH, and Kennebunk, ME. For alternative routing between Utica, NY, and Lebanon, NH, flights could use V-490 from Utica, to Cambridge, NY, then V-542 from Cambridge to Lebanon.

FAA Order 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending VOR Federal airways V-91, V-123, V-431, V-489, and V-496 near Glens Falls, NY, qualifies for categorical exclusion under the National Environmental Policy Act and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019 and effective September 15, 2019, is amended as follows:

Paragraph 6010(a) Domestic VOR Federal Airways.

* * * * *

V-91 [Amended]

From INT Calverton, NY, 180° and Hampton, NY, 223° radials; Calverton; Bridgeport, CT; to Albany, NY.

* * * * *

V-123 [Amended]

From INT Washington, DC, 065° and Baltimore, MD, 197° radials, via INT Washington, DC, 065° and Woodstown, NJ, 230° radials; Woodstown; Robbinsville, NJ; INT Robbinsville 044° and LaGuardia, NY, 213° radials; LaGuardia; INT LaGuardia 032° and Carmel, NY, 157° radials; Carmel; INT Carmel 344° and Albany, NY, 181° radials; Albany; to Cambridge, NY.

* * * * *

V-431 [Amended]

From INT Boston, MA, 015° and Gardner, MA, 097° radials, to Gardner, MA.

* * * * *

V-489 [Amended]

From INT Sparta, NJ, 300° and Huguenot, NY, 196° radials; Huguenot; INT Huguenot 008° and Albany, NY, 209° radials; to Albany, NY.

* * * * *

V-496 [Amended]

From Lebanon, NH; to Kennebunk, ME.

* * * * *

Issued in Washington, DC, on June 17, 2020.
Scott M. Rosenbloom,
Acting Manager, Rules and Regulations Group.

[FR Doc. 2020-13383 Filed 6-22-20; 8:45 am]

BILLING CODE 4910-13-P